DEPARTMENT OF LABOR

Employment and Training Administration

[TA-W-63,957]

Phillips Plastics Corporation, Precision Decorating Facility, Including On-Site Leased Workers From Manpower, Medford, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 31, 2008, applicable to workers of Phillips Plastics Corporation, Precision Decorating Facility, Medford, Wisconsin. The notice was published in the Federal Register on November 13, 2008 (73 FR 67209).

At the request of the State agency and the petitioners, the Department reviewed the certification for workers of the subject firm. The workers are engaged in the production of interior automotive plastics (i.e. automotive radio faceplates, heater control faceplates and buttons and window switches).

New information shows that workers leased from Manpower were employed on-site at the Medford, Wisconsin location of Phillips Plastics Corporation, Precision Decorating Facility. The Department has determined that these workers were sufficiently under the control of Phillips Plastics Corporation, Precision Decorating Facility to be considered leased workers.

Based on these findings, the Department is amending this certification to include workers leased from Manpower working on-site at the Medford, Wisconsin location of the subject firm.

The intent of the Department's certification is to include all workers employed at Phillips Plastics Corporation, Precision Decorating Facility, Medford, Wisconsin who were adversely affected by increased imports of interior automotive plastics (i.e., automotive radio faceplates, heater control faceplates and buttons and wind switches).

The amended notice applicable to TA-W-63,957 is hereby issued as follows:

”All workers of Phillips Plastics Corporation, Precision Decorating Facility, including on-site leased workers from Manpower, Medford, Wisconsin, who became totally or partially separated from employment on or after July 27, 2007, through October 31, 2010, are eligible to apply for adjustment assistance under Section 223 of the Trade Act of 1974, and are also eligible to apply for alternative trade adjustment assistance under Section 246 of the Trade Act of 1974.”

Signed at Washington, DC, this 18th day of November 2008.
Richard Church,
Certifying Officer, Division of Trade Adjustment Assistance.

[FR Doc. E8-28360 Filed 11-28-08; 8:45 am]

BILLING CODE 4510-FN-P